DEPARTMENT OF ENERGY

Federal Energy Regulatory Commission

Combined Notice of Filings #1

Take notice that the Commission received the following electric corporate filings:

Docket Numbers: EC10-51-001.

Applicants: T. Rowe Price Group, Inc.

Description: T. Rowe Price Associates, Inc. et al (Primary Applicants) request for reauthorization and extension of Blanket Authorizations to acquire and dispose of securities pursuant to Section 203 of the Federal Power Act.

Filed Date: 3/4/13.

Accession Number: 20130305-0200.

Comments Due: 5 p.m. e.t. 3/25/13.

Take notice that the Commission received the following electric rate filings:

Docket Numbers: ER11-4267-005; ER11-4270-005; ER11-4269-006 ER11-4268-005; ER11-113-006; ER10-2682-005 ER12-1680-003; ER11-4694-002.

Applicants: Algonquin Energy Services Inc., Algonquin Power Windsor Locks LLC, Algonquin Tinker Gen Co., Algonquin Northern Maine Gen Co., Sandy Ridge Wind, LLC, Granite State Electric Company, Minonk Wind, LLC, GSG 6, LLC.

Description: Notice of Change in Status of Algonquin Energy Services Inc., et al.

Filed Date: 3/5/13.

Accession Number: 20130305-5182.

Comments Due: 5 p.m. e.t. 3/26/13.

Docket Numbers: ER13-1040-000.

Applicants: Wisconsin Public Service Corporation.

Description: Wisconsin Public Service Corporation Section 205 Filing to be effective 12/31/9998.

Filed Date: 3/5/13.

Accession Number: 20130305-5155.

Comments Due: 5 p.m. e.t. 3/26/13.

Docket Numbers: ER13-1041-000.

Applicants: American Electric Power Service Corporation, PJM Interconnection, L.L.C.

Description: AEP submits revisions to PJM Tariff Att H-14B Part II per Order in ER08-1329 to be effective 5/6/2013.

Filed Date: 3/5/13.

Accession Number: 20130305-5156.

Comments Due: 5 p.m. e.t. 3/26/13.

Docket Numbers: ER13-1042-000.

Applicants: Southwestern Public Service Company.

Description: 2013-3-6-GSEC-BCEC-Davidson-CA-658-0.0.0-Filing to be effective 3/7/2013.

Filed Date: 3/6/13.

Accession Number: 20130306-5015.

Comments Due: 5 p.m. e.t. 3/28/13.

Docket Numbers: ER13-1043-000.

Applicants: Southwestern Public Service Company.

Description: 2013-3-6-SPS-CWnd1-G-E&P-653 0.1.0 NOC-Filing to be effective 3/7/2013.

Filed Date: 3/6/13.

Accession Number: 20130306-5065.

Comments Due: 5 p.m. e.t. 3/28/13.

Docket Numbers: ER13-1044-000.

Applicants: PJM Interconnection, L.L.C.

Description: Revisions to the PJM OATT Attachment DD 5.10 re Quadrennial Review to be effective 7/1/2013.

Filed Date: 3/6/13.

Accession Number: 20130306-5066.

Comments Due: 5 p.m. e.t. 3/28/13.

Docket Numbers: ER13-1045-000.

Applicants: PacifiCorp.

Description: USBR-WAPA Weber Basin Project Agreement Rev 3 to be effective 5/6/2013.

Filed Date: 3/6/13.

Accession Number: 20130306-5068.

Comments Due: 5 p.m. e.t. 3/28/13.

Docket Numbers: ER13-1046-000.

Applicants: Southern California Edison Company.

Description: Notices of Cancellation of SGIA & DSA Littlerock SGF1 Project to be effective 1/15/2013.

Filed Date: 3/7/13.

Accession Number: 20130307-5000.

Comments Due: 5 p.m. e.t. 3/28/13.

Docket Numbers: ER13-1047-000.

Applicants: Tesoro Refining & Marketing Company LLC.

Description: Tesoro_Application_For_Acceptance_of_Tariff to be effective 5/1/2013.

Filed Date: 3/7/13.

Accession Number: 20130307-5001.

Comments Due: 5 p.m. e.t. 3/28/13.

Docket Numbers: ER13-1048-000.

Applicants: Northern States Power Company, a Minnesota corporation.

Description: Northern States Power Company, a Minnesota corporation submits Notice of Cancellation of Service Agreement No. 235-NSP with Great River Energy Cooperative and Southern Minnesota Municipal Power Agency.

Filed Date: 3/5/13.

Accession Number: 20130305-5183.

Comments Due: 5 p.m. e.t. 3/26/13.

Docket Numbers: ER13-1049-000.

Applicants: Midwest Independent Transmission System Operator, Inc.

Description: Midwest Independent Transmission System Operator, Inc. submits Notice of Termination of Generator Interconnection Agreement No. 1876 for Project G519.

Filed Date: 3/5/13.

Accession Number: 20130305-5194.

Comments Due: 5 p.m. e.t. 3/26/13.

Docket Numbers: ER13-1050-000.

Applicants: ERA MA, LLC.

Description: Cancel Tariff to be effective 3/8/2013.

Filed Date: 3/7/13.

Accession Number: 20130307-5073.

Comments Due: 5 p.m. e.t. 3/28/13.

Docket Numbers: ER13-1051-000.

Applicants: Linden VFT, LLC.

Description: Linden VFT, LLC submits Request for Limited Waiver of Schedule 16 of PJM Interconnection, L.L.C.'s Open Access Transmission Tariff.

Filed Date: 3/6/13.

Accession Number: 20130306-5148.

Comments Due: 5 p.m. e.t. 3/28/13.

Docket Numbers: ER13-1052-000.

Applicants: Midwest Independent Transmission System Operator, Inc., PJM Interconnection, L.L.C.

Description: Revisions to the MISO-PJM JOA re the Calculation of Market Flow for JOUs to be effective 3/8/2013.

Filed Date: 3/7/13.

Accession Number: 20130307-5117.

Comments Due: 5 p.m. e.t. 3/28/13.

Docket Numbers: ER13-1053-000.

Applicants: Switch Energy LLC.

Description: Application for MBR Authority to be effective 3/8/2013.

Filed Date: 3/7/13.

Accession Number: 20130307-5122.

Comments Due: 5 p.m. e.t. 3/28/13.

Docket Numbers: ER13-1054-000.

Applicants: PJM Interconnection, L.L.C., Midwest Independent Transmission System Operator, Inc.

Description: PJM MISO JOA Marketflow Calculation-Impact Import Transactions to be effective 6/18/2013.

Filed Date: 3/7/13.

Accession Number: 20130307-5126.

Comments Due: 5 p.m. e.t. 3/28/13.

Take notice that the Commission received the following electric securities filings:

Docket Numbers: ES13-11-000.

Applicants: Monongahela Power Company.

Description: FirstEnergy Service Company on behalf of Monongahela Power Company submits Revised Exhibits C, D, and E.

Filed Date: 3/5/13.

Accession Number: 20130305-5190.

Comments Due: 5 p.m. e.t. 3/15/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 7, 2013.
Nathaniel J. Davis, Sr.,
Deputy Secretary.

[FR Doc. 2013-05974 Filed 3-14-13; 8:45 am]

BILLING CODE 6717-01-P